DEPARTMENT OF TRANSPORATION

Federal Aviation Administration

FAA Approval of Noise Compatibility Program 14 CFR Part 150 Ronald Reagan Washington National Airport Arlington, VA

AGENCY: Federal Aviation Administration, DOT.

ACTION: Notice.

SUMMARY: The Federal Aviation Administration (FAA) announces its findings on the noise compatibility program submitted by Metropolitan Washington Airport Authority (MWAA) under the provisions of 49 U.S.C. (the Aviation Safety and Noise Abatement Act, hereinafter referred to as “the Act”) and 14 CFR part 150. These findings are made in recognition of the description of Federal and nonfederal responsibilities in Senate Report No. 96-52 (1980). On August 6, 2007, the FAA determined that the noise exposure maps submitted by MWAA under Part 150 were in compliance with applicable requirements. On January 10, 2008, the FAA approved the Ronald Reagan Washington National Airport noise compatibility program. Some of the recommendations of the program were approved.

DATES: Effective Date: The effective date of the FAA's approval of the Ronald Reagan Washington National Airport noise compatibility program is January 10, 2008.

FOR FURTHER INFORMATION CONTACT: Jennifer Mendelsohn, Eastern Region, Washington Airports District Office, Federal Aviation Administration, 23723 Air Freight Lane, Suite 210, Dulles, Virginia 20166, Telephone: 703-661-1362. Documents reflecting this FAA action may be reviewed at this same location.

SUPPLEMENTARY INFORMATION: This notice announces that the FAA has given its overall approval to the noise compatibility program for Ronald Reagan Washington National Airport, effective January 10, 2008.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

(a) The noise compatibility program was developed in accordance with the provisions and procedures of FAR Part 150;

(b) Program measures are reasonably consistent with achieving the goals of reducing existing non-compatible land uses around the airport and preventing the introduction of additional non-compatible land uses;

(c) Program measures would not create an undue burden on interstate or foreign commerce, unjustly discriminate against types or classes of aeronautical uses, violate the terms of airport grant agreements, or intrude into areas preempted by the Federal Government; and

(d) Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where federal funding is sought, requests for project grants must be submitted to the FAA Airports District Office in Dulles, Virginia.

MWAA submitted to the FAA on August 2, 2007, the noise exposure maps, descriptions, and other documentation produced during the noise compatibility planning study conducted from July 2002 through August 2007. The Ronald Regan Washington National Airport noise exposure maps were determined by FAA to be in compliance with applicable requirements on August 6, 2007. Notice of this determination was published in the Federal Register on August 13, 2007 (72 FR 45294).

The Ronald Regan Washington National Airport study contains a proposed noise compatibility program comprised of actions designed for phased implementation by airport management and adjacent jurisdictions from August 2007 to (or beyond) the year 2009. It was requested that the FAA evaluate and approve this material as a noise compatibility program as described in section 47504 of the Act. The FAA began its review of the program on August 6, 2007 and was required by a provision of the Act to approve or disapprove the program within 180 days. Failure to approve or disapprove such program within the 180-day period shall be deemed to be an approval of such program.

The submitted program contained fourteen (14) proposed actions for noise mitigation on and off the airport. The FAA completed its review and determined that the procedural and substantive requirements of the Act and FAR part 150 have been satisfied. The overall program, therefore, was approved by the FAA effective January 10, 2008.

Outright approval was granted for four Noise Abatement Measures and all six Noise Mitigation Measures. Four Noise Abatement Measures were disapproved for purposes of part 150. The approved measures included such items as: Revising the language in the Airport Facility Directory to reflect the current novice abatement procedures at the Airport; Requesting a voluntary phase-out of hushkitted Stage 3 aircraft; Establishing a system to report airline compliance with noise abatement measures; Enhance the noise complaint system; Amend comprehensive plans and zoning maps to promote compatible land uses; Encourage Airport noise overlay zoning; Amend building codes to require soundproofing; Disclose noise levels prior to contract for sale or lease; Expand Airport Noise Information Program and Encourage local jurisdictions to adopt discretionary project review guidelines for Subdivision, Rezoning, Special Use, Conditional Use and Variance Applications. Four Noise Abatement Measures were disapproved for purposes of part 150. The Noise Exposure Maps and Noise Compatibility Study show no present or forecasted incompatible land uses within the DNL 65 dB and the Noise Compatibility Study does not state that the airport sponsor has selected land use guidelines different from those in Table 1 of part 150. Disapproval for purposes of part 150 does not prohibit the airport sponsor from implementing those measures. The disapproved measures included such items as: Form a working group to develop advanced navigation procedures for arrivals and departures on all runways; Encourage air traffic control controllers to direct flights arriving on Runway 01 or departing on Runway 19 during nighttime hours (10 p.m. to 7 a.m.) when traffic permits, to distribute the locations at which aircraft turn onto, or off of, the route along the center of the Potomac River over the areas between 5 and 10 miles south of the Airport; Encourage air traffic control controllers to direct flights arriving on Runway 01 or departing on Runway 19 during daytime hours (7 a.m. to 10 p.m.) when traffic permits, to distribute the locations at which aircraft turn into, or off of, the route along the center of the Potomac River over the areas between 5 and 10 miles south of the Airport and Update the Airport's Noise Monitoring and Flight Tracking System.

These determinations are set forth in detail in the Record of Approval signed by the Division Manager on January 10, 2008. The Record of Approval, as well as other evaluation materials and the documents comprising the submittal, are available for review at the FAA office listed above and at the administrative offices of the MWAA. The Record of Approval also will be available on-line at: http://www.faa.gov/airports_airtraffic/airports/environmental/airport_noise/.

Issued in Dulles, Virginia, on January 11, 2008.
Terry J. Page,
Manager, Washington Airports District Office.

[FR Doc. 08-209 Filed 1-18-08; 8:45 am]

BILLING CODE 4910-13-M